COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes a product and a service previously furnished by such agencies.

DATES: Comments must be received on or before: June 23, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

9530-00-NIB-0001—Stanchion, Crowd Control, Single Retractable Belt

9530-00-NIB-0002—Stanchion, Crowd Control, Double Retractable Belts

Mandatory Source of Supply: Wiscraft, Inc., Milwaukee, WI

Mandatory Purchase For: 100% of requirement for the Transportation Security Administration

Contracting Activity: CSI—Transportation Security Administration (TSA)

Service

Service Type: Facility Support Investment

Mandatory for: US Navy, Naval Facilities Engineering Command Northwest, Multiple Locations, Silverdale, WA

Mandatory Source of Supply: Skookum Educational Programs, Bremerton, WA

Contracting Activity: Dept of the Navy, NAVFAC Northwest

Deletions

The following product and service are proposed for deletion from the Procurement List:

Products

NSN—Product Name: 7210-00-492-8381—Tablecloth, Momie

Mandatory Source of Supply: Cambria County Association for the Blind and Handicapped, Johnstown, PA

Contracting Activity: GSA/FSS Greater Southwest Acquisiti, Fort Worth, TX

Service

Service Type: Custodial Services

Mandatory for: J. Allen Frear Federal Building, Dover, DE

Mandatory Source of Supply: Opportunity Center, Incorporated, Wilmington, DE

Contracting Activity: Public Buildings Service, GSA/PBS/R03 Delaware Valley FO

Patricia Briscoe,
Deputy Director, Business Operations (Pricing and Information Management).

[FR Doc. 2019-10895 Filed 5-23-19; 8:45 am]

BILLING CODE 6353-01-P